DEPARTMENT OF AGRICULTURE

Farm Service Agency

Request for Revision and Extension of a Currently Approved Information Collection; Receiving and Processing Applications

AGENCY: Farm Service Agency, USDA.

ACTION: Notice and request for comments.

SUMMARY: In accordance with the Paperwork Reduction Act of 1995, the Farm Service Agency (FSA) is seeking comments from all interested individuals and entities on the revision and extension of currently approved information collection that supports the Direct Loan Program. The collection of information from loan applicants and commercial lenders is used to determine eligibility and financial feasibility when the applicant requests direct loan assistance.

DATES: Comments on this notice must be received on or before June 21, 2004 to be assured consideration.

ADDRESSES: Comments concerning this notice should be addressed to Janet Downs, Senior Loan Officer, USDA, Farm Service Agency, Loan Making Division, 1400 Independence Avenue, SW., Stop 0522, Washington, DC 20250-0522, and to the Desk Officer for Agriculture, Office of Information and Regulatory Affairs, Office of Management and Budget, Washington, DC 20503. Comments may be submitted by e-mail to janet.downs@wdc.usda.gov. Copies of the information collection may also be obtained by contacting Janet Downs.

FOR FURTHER INFORMATION CONTACT: Janet Downs, Loan Making Division, telephone (202) 720-0599.

SUPPLEMENTARY INFORMATION: Title: Receiving and Processing Applications.

OMB Control Number: 0560-0178.

Expiration Date of Approval: 10/31/2004.

Type of Request: Revision and Extension of Currently Approved Information Collection.

Abstract: This information collection is needed to effectively administer the Direct Loan Program in accordance with the requirements of 7 CFR Part 1910 subpart A, as authorized by the Consolidated Farm and Rural Development Act (CONACT). The collected information is submitted to the Agency loan official by loan applicants and commercial lenders for use in making program eligibility and financial feasibility determinations as required by the CONACT.

Estimate of Burden: Public reporting burden for this collection of information is estimated to average 1.66 hours per response.

Respondents: Individual and entity farmers and commercial lenders.

Estimated Number of Respondents: 17,806.

Estimated Number of Responses per Respondent: 3.43.

Estimated Total Annual Burden on Respondents: 101,283.

Comment is invited on: (1) Whether the collection of information is necessary for the above stated purposes and the proper performance of FSA, including whether the information will have practical utility; (2) The accuracy of the agency's estimate of burden, including the validity of the methodology and assumptions used; (3) Ways to enhance the quality, utility and clarity of the information being collected; and (4) Ways to minimize the burden of the collection of information on those who are to respond, including through the use of appropriate automated, electronic, mechanical, or other technological collection techniques or other forms of information technology.

Comments will be summarized and included in the request for Office of Management and Budget approval.

Signed in Washington DC on April 14, 2004.
James R. Little,
Administrator, Farm Service Agency.

[FR Doc. 04-9022 Filed 4-20-04; 8:45 am]

BILLING CODE 3410-05-P